DEPARTMENT OF THE INTERIOR

Bureau of Ocean Energy Management

[OMB Number 1010-0181]

Information Collection: Southern Alaska Sharing Network and Subsistence Study; Submitted for OMB Review; Comment Request

ACTION: 30-day notice.

SUMMARY: To comply with the Paperwork Reduction Act of 1995 (PRA), the Bureau of Ocean Energy Management (BOEM) is notifying the public that we have submitted an information collection request (ICR) to the Office of Management and Budget (OMB) for review and approval. The ICR pertains to conducting a survey on subsistence and sharing networks in coastal Alaska. This notice provides the public a second opportunity to comment on the paperwork burden of this collection.

DATES: Submit written comments by February 15, 2013.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0181 in your comment and include your name and return address.

FOR FURTHER INFORMATION CONTACT: Arlene Bajusz, Office of Policy, Regulations, and Analysis at arlene.bajusz@boem.gov (email) or (703) 787-1025 (phone). You may review the ICR online at http://www.reginfo.gov. Follow the instructions to review Department of the Interior collections under review by OMB.

SUPPLEMENTARY INFORMATION:

OMB Control Number: 1010-0181.

Title: Southern Alaska Sharing Network and Subsistence Study.

Abstract: The Bureau of Ocean Energy Management (BOEM), under the Department of the Interior (DOI), is the Federal administrative agency that conducts OCS lease sales and monitors and mitigates adverse impacts that might be associated with offshore resource development. Within BOEM, the Environmental Studies Program implements and manages the responsibilities of research. This study will facilitate the meeting of DOI/BOEM information needs on subsistence food harvest and sharing activities in various coastal Alaska areas.

Planning areas for potential resource development in Alaska can include large geographic areas with diverse, abundant, and environmentally sensitive resources. Within these areas, the DOI's Proposed OCS Oil and Gas Leasing Program considers that there will be an oil and gas lease sale in the future. These proposed sale areas or adjacent areas support major productive commercial and subsistence fisheries; provide habitat to numerous marine mammals and land animals, as well as plant harvesting; and are a significant migration and staging area for internationally important waterfowl. Numerous communities in the State of Alaska rely heavily on subsistence fisheries.

This study assesses the vulnerabilities of several coastal communities in southern Alaska as to the potential effects of offshore oil and gas development on subsistence food harvest and sharing activities. It investigates the resilience of local sharing networks that structure contemporary subsistence-cash economies using research methods that involve the residents of these communities most proximate to the future sale area(s).

The BOEM will use the information collected to gain knowledge about local social systems that will help shape development leasing strategies and serve as an interim baseline for impact monitoring to compare against future research in these areas. Without this data, BOEM will not have sufficient information to make informed leasing and development decisions for these areas.

Survey Instrument: The research will be collected from a survey administered to each head of household in the communities to collect information about the subsistence (harvest data) and sharing networks of the communities. The information under this collection will be obtained through personal interviews that are voluntary.

Interview Methods: The interviews for each study will be conducted in person in a setting most comfortable for the respondents. This personal method is more expensive and time consuming for the researchers, but these drawbacks are outweighed by improvements in the quality of information obtained and the rapport established. Telephone interviews have not been successful in rural Alaska. Each respondent will be paid an honorarium for taking part in the study. Responses are voluntary and confidential.

Frequency: One-time event for each study.

Description of Respondents: Approximately 548 respondents from southern Alaska coastal communities.

Estimated Reporting and Recordkeeping Hour Burden: The estimated annual hour burden for this collection is 411 hours. We estimate each survey will take about 45 minutes.

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on August 22, 2012, BOEM published a Federal Register notice (77 FR 50712) announcing that we would submit this ICR to OMB for approval. The notice provided the required 60-day comment period. We received one comment. The Marine Mammal Commission commended BOEM for including science-based assessments of subsistence food harvest and sharing activities in Alaskan communities as part of its Environmental Studies Program and therefore supports the collection of information. Comments are accepted at any time.

Public Availability of Comments: Before including your address, phone number, email address, or other personal identifying information in your comment, you should be aware that your entire comment—including your personal identifying information—may be made publicly available at any time. While you can ask us in your comment to withhold your personal identifying information from public review, we cannot guarantee that we will be able to do so.

Dated: December 6, 2012.
Deanna Meyer-Pietruszka,
Chief, Office of Policy, Regulations, and Analysis.

[FR Doc. 2013-00763 Filed 1-15-13; 8:45 am]

BILLING CODE 4310-MR-P